SOCIAL SECURITY ADMINISTRATION

[Docket No. SSA-2023-2011]

Privacy Act of 1974; Matching Program

AGENCY: Social Security Administration (SSA).

ACTION: Notice of a new matching program.

SUMMARY: In accordance with the provisions of the Privacy Act, as amended, this notice announces a new matching program with the Centers for Medicare & Medicaid Services (CMS). Under this matching program, the CMS will disclose to SSA certain individuals' admission and discharge information for care received in a nursing care facility covered by the agreement. SSA will use this information to administer the Supplemental Security Income (SSI) program efficiently and to identify Special Veterans' Benefits (SVB) beneficiaries who are no longer residing outside of the United States.

DATES: The deadline to submit comments on the proposed matching program is December 4, 2023.

The matching program will be applicable on December 20, 2023, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2023-2011 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at https://www.regulations.gov. Use the Search function to find docket number SSA-2023-2011 and then submit your comments. The system will issue you a tracking number to confirm your submission. You will not be able to view your comment immediately because we must post each submission manually. It may take up to a week for your comments to be viewable.

2. Fax: Fax comments to 1(833) 410-1631.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at https://www.regulations.gov or in person, during regular business hours, by arranging with the contact person identified below.

FOR FURTHER INFORMATION CONTACT: Interested parties may submit general questions about the matching program to Cynthia Scott, Division Director, Office of Privacy and Disclosure, Office of the General Counsel, Social Security Administration, G-401 WHR, 6401 Security Boulevard, Baltimore, MD 21235-6401, at telephone: (410) 966-1943, or send an email to Cynthia.Scott@ssa.gov.

SUPPLEMENTARY INFORMATION: None.

Matthew Ramsey,
Executive Director, Office of Privacy and Disclosure, Office of the General Counsel.

PARTICIPATING AGENCIES:

SSA and CMS.

AUTHORITY FOR CONDUCTING THE MATCHING PROGRAM:

This matching agreement between CMS and SSA is executed pursuant to the Privacy Act of 1974, 5 U.S.C. 552a, as amended by the Computer Matching and Privacy Protection Act of 1988, Public Law 100-503, and the regulations promulgated thereunder.

Legal authority for the SSI portion of the matching program is contained in sections 1611(e)(1) and 1631(f) of the Social Security Act (Act) (42 U.S.C. 1382(e)(1) and 1383(f)), and 20 Code of Federal Regulations (CFR) 416.211. Section 1611(e)(1)(B) of the Act (42 U.S.C. 1382(e)(1)(B)) limits the amount of SSI benefits that eligible individuals or their eligible spouse may receive when that individual is, throughout any month, in a medical treatment facility receiving payments (with respect to such individual or spouse), under a State plan approved under title XIX of the Act, or the amount of benefits an eligible child under the age of 18 may receive who is receiving payments under any health insurance policy issued by a private provider.

Sections 801 and 806(a) and (b) of the Act (42 U.S.C. 1001 and 1006(a) and (b)) contain the legal authorities for the SVB portion of the matching program.

Section 1631(f) of the Act (42 U.S.C. 1383(f)) requires CMS to provide SSA with “such information as the Commissioner of [SSA] needs for purposes of determining eligibility for or amount of benefits, or verifying other information with respect thereto.”

Additional legal authority for CMS' disclosures under this agreement is 45 CFR 164.512(a) (“Standard: Uses and disclosures required by law,” also referred to as the Health Insurance Portability and Accountability Act of 1996 Privacy Rule). The legal authority for SSA to reimburse CMS under this interagency transaction is the Economy Act, 31 U.S.C. 1535.

PURPOSE(S):

This matching program establishes the conditions under which CMS will disclose to SSA certain individuals' admission and discharge information for care received in a nursing care facility covered by the agreement. SSA will use this information to administer the SSI program efficiently and to identify SVB beneficiaries who are no longer residing outside of the United States.

CATEGORIES OF INDIVIDUALS:

The individuals whose information is involved in this matching program are receipients of SSI and SVB benefits.

CATEGORIES OF RECORDS:

SSA will provide CMS with a monthly finder file, which will be extracted from SSA's SSI and SVB's records. The finder file will consist of data elements related to an individual's SSI/SVB eligibility. CMS will match the SSA finder file against data maintained pursuant to the Long Term Care-Minimum Data Set (LTC/MDS) systems of records.

SYSTEM(S) OF RECORDS:

SSA will provide CMS with a monthly finder file, which will be extracted from SSA's SSI and SVB's records, 60-0103, last fully published on January 11, 2006 (71 FR 1830); and amended on December 10, 2007 (72 FR 69723), July 3, 2018 (83 FR 31250-31251), and November 1, 2018 (83 FR 54969).

CMS will match the SSA finder file against data maintained pursuant to the LTC/MDS (System Number 09-70-0528) SOR, last fully published on March 19, 2007 (72 FR 12801), and amended on April 23, 2013 (78 FR 23938), May 29, 2013 (78 FR 32257), and February 14, 2018 (83 FR 6591); and submit its response file to SSA.

[FR Doc. 2023-24263 Filed 11-2-23; 8:45 am]

BILLING CODE 4191-02-P